DEPARTMENT OF ENERGY

Federal Energy Regulatory Commission

[Docket No. EG02-79-000, et al.]

PG&E Dispersed Generating Company, LLC, et al.; Electric Rate and Corporate Regulation Filings

March 15, 2002.

Take notice that the following filings have been made with the Commission. Any comments should be submitted in accordance with Standard Paragraph E at the end of this notice.

1. PG&E Dispersed Generating Company, LLC

[Docket No. EG02-79-000]

Take notice that on March 12, 2002, PG&E Dispersed Generating Company, LLC (PG&E Dispersed Gen) tendered for filing with the Federal Energy Regulatory Commission (Commission) an amendment to clarify its Application For Redetermination of Exempt Wholesale Generator Status filed with the Commission on January 31, 2002.

Comment Date: April 5, 2002.

2. Bangor Hydro-Electric Company

[Docket No. ER99-1522-001]

Take notice that on March 12, 2002, Bangor Hydro-Electric Company (Bangor Hydro) filed an updated market analysis as required by the Federal Energy Regulatory Commission's (Commission) March 12, 1999 order in Docket No. ER99-1522-000 granting Bangor Hydro market based rate authority.

Comment Date: April 2, 2002.

3. Progress Energy Inc., on behalf of, Progress Ventures, Inc.

[Docket No. ER02-1302-000]

Take notice that on March 12, 2002, Progress Ventures, Inc. (Progress Ventures) tendered for filing an executed Service Agreement between Progress Ventures and the following eligible buyer, Dynegy Power Marketing, Inc. Service to this eligible buyer will be in accordance with the terms and conditions of Progress Ventures Market-Based Rates Tariff, FERC Electric Tariff No. 1.

Progress Ventures requests an effective date of March 11, 2002 for this Service Agreement. Copies of the filing were served upon the North Carolina Utilities Commission, the South Carolina Public Service Commission, the Florida Public Service Commission and the Georgia Public Service Commission.

Comment Date: April 2, 2002.

4. Tampa Electric Company

[Docket No. ER02-1303-000]

Take notice that on March 12, 2002, Tampa Electric Company (Tampa Electric) tendered for filing service agreements with Reliant Energy Services, Inc. (Reliant) for firm point-to-point transmission service and non-firm point-to-point transmission service under Tampa Electric's open access transmission tariff.

Tampa Electric proposes an effective date of March 12, 2002, for the tendered service agreements, and therefore requests waiver of the Commission's notice requirement. Copies of the filing have been served on Reliant and the Florida Public Service Commission.

Comment Date: April 2, 2002.

5. West Texas Utilities Company

[Docket No. ER02-1304-000]

Take notice that on March 12, 2002, West Texas Utilities Company (WTU) filed a Second Revised Agreement for Sale and Purchase of Power and Associated Energy and Responsive Reserves (Second Revised Agreement) between WTU and Brazos Electric Power Cooperative, Inc. (Brazos). The Second Revised Agreement is being filed under WTU's Market-Based Rate Tariff and replaces, in its entirety, First Revised Service Agreement No. 25, currently on file under the Market-Based Rate Tariff. CSW Operating Companies FERC Electric Tariff, First Revised Volume No. 8. The Second Revised Agreement is designated Second Revised Service Agreement No. 25.

WTU seeks an effective date of July 31, 2001 and, accordingly, seeks waiver of the Commission's notice requirements. Copies of the filing have been served on Brazos and on the Public Utility Commission of Texas.

Comment Date: April 2, 2002.

6. New England Power Company

[Docket No. ER02-1305-000]

Take notice that on March 12, 2002, New England Power Company (NEP) submitted for filing First Revised Service Agreement No. 212 for service under NEP's Open Access Transmission Tariff, FERC Electric Tariff, Second Revised Volume No. 9 between NEP and Fitchburg Gas and Electric Light Company.

NEP states that a copy of this filing has been served upon Fitchburg and all appropriate state regulators.

Comment Date: April 2, 2002.

7. PacifiCorp

[Docket No. ER02-1306-000]

Take notice that on March 12, 2002, PacifiCorp, tendered for filing in accordance with 18 CFR 35 of the Federal Energy Regulatory Commission's (Commission) Rules and Regulations, Notice of Cancellation of Service Agreement No. 22 under PacifiCorp's FERC Electric Tariff, First Revised Volume No. 6 for the Electric Service Agreement entered on November 21, 1996 between Blanding City, Utah and PacifiCorp.

Copies of this filing were supplied to the Utah Public Service Commission and the Public Utility Commission of Oregon.

Comment Date: April 2, 2002.

8. Midwest Independent Transmission System Operator, Inc.

[Docket No. ER02-1307-000]

Take notice that on March 12, 2002, Midwest Independent Transmission System Operator, Inc. (Midwest ISO) pursuant to Section 205 of the Federal Power Act, submitted for filing a Service Agreements for the transmission service requested by East Kentucky Power Cooperative.

A copy of this filing was sent to East Kentucky Power Cooperative.

Comment Date: April 2, 2002.

9. Midwest Independent Transmission System Operator, Inc.

[Docket No. ER02-1308-000]

Take notice that on March 12, 2002, Midwest Independent Transmission System Operator, Inc. (Midwest ISO) pursuant to Section 205 of the Federal Power Act, submitted for filing a Service Agreements for the transmission service requested by Hutchinson Utilities Commission.

A copy of this filing was sent to Hutchinson Utilities Commission.

Comment Date: April 2, 2002.

10. Midwest Independent Transmission System Operator, Inc.

[Docket No. ER02-1309-000]

Take notice that on March 12, 2002, Midwest Independent Transmission System Operator, Inc. (Midwest ISO) pursuant to Section 205 of the Federal Power Act, submitted for filing a Service Agreements for the transmission service requested by Municipal Energy Agency of Nebraska.

A copy of this filing was sent to Municipal Energy Agency of Nebraska.

Comment Date: April 2, 2002.

11. Midwest Independent Transmission System Operator, Inc.

[Docket No. ER02-1310-000]

Take notice that on March 12, 2002, Midwest Independent Transmission System Operator, Inc. (Midwest ISO) pursuant to Section 205 of the Federal Power Act, submitted for filing a Service Agreements for the transmission service requested by Omaha Public Power District.

A copy of this filing was sent to Omaha Public Power District.

Comment Date: April 2, 2002.

12. Midwest Independent Transmission System Operator, Inc.

[Docket No. ER02-1311-000]

Take notice that on March 12, 2002, Midwest Independent Transmission System Operator, Inc. (Midwest ISO) pursuant to Section 205 of the Federal Power Act, submitted for filing a Service Agreements for the transmission service requested by UtiliCorp United Inc.

A copy of this filing was sent to UtiliCorp United Inc.

Comment Date: April 2, 2002.

13. Midwest Independent Transmission System Operator, Inc.

[Docket No. ER02-1312-000]

Take notice that on March 12, 2002, Midwest Independent Transmission System Operator, Inc. (Midwest ISO) pursuant to Section 205 of the Federal Power Act, submitted for filing a Service Agreements for the transmission service requested by Tennessee Valley Authority.

A copy of this filing was sent to Tennessee Valley Authority.

Comment Date: April 2, 2002.

14. Niagara Mohawk Power Corporation

[Docket No. ER02-1314-000]

Take notice that on March 12, 2002, Niagara Mohawk Power Corporation (NIMO) filed two executed interconnection agreements with CH Resources, Inc. (CH Resources). The interconnection agreements set forth the terms and conditions governing the interconnection between the Niagara generating facility (Niagara Facility) and the Syracuse generating facility (Syracuse Facility), respectively, and NIMO's transmission system.

Copies of the filing were served upon CH Resources and the New York Public Service Commission.

Comment Date: April 2, 2002.

15. Eliot G. Protsch

[Docket No. ID-3594-001]

Take notice that on March 8, 2002, Eliot G. Protsch filed an Application to Hold Interlocking Positions.

Comment Date: April 8, 2002.

16. James S. Haines, Jr.

[Docket No. ID-3692-000]

On March 7, 2002, the above named individual filed with the Federal Energy Regulatory Commission an application for authority to hold interlocking positions in the Empire District Electric Co., with its principal place of business at 602 Joplin Avenue, Post Office Box 127, Joplin, Missouri, 64802-0127, and El Paso Electric Co., with its principal place of business at 123 West Mills, P.O. Box 982, El Paso, Texas, 79960.

Comment Date: April 8, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-6890 Filed 3-21-02; 8:45 am]

BILLING CODE 6717-01-P